DEPARTMENT OF ENERGY

Federal Energy Regulatory Commission

Combined Notice of Filings #1

Take notice that the Commission received the following electric corporate filings:

Docket Numbers: EC18-23-000.

Applicants: Dynegy Inc., Vistra Energy Corp.

Description: Supplement to Joint Application of Dynegy Inc., et al. for Authorization for Merger of Jurisdictional Assets and Purchase of Securities (Delivered Price Test for MISO Region).

Filed Date: 2/5/18.

Accession Number: 20180205-5179.

Comments Due: 5 p.m. ET 2/26/18.

Take notice that the Commission received the following electric rate filings:

Docket Numbers: ER05-6-118.

Applicants: Midwest Independent Transmission System Operator, Inc., PJM Interconnection, L.L.C.

Description: Update to September 18, 2017 Refund Report of Midcontinent Independent System Operator, Inc. and PJM Interconnection, L.L.C.

Filed Date: 2/2/18.

Accession Number: 20180202-5222.

Comments Due: 5 p.m. ET 2/23/18.

Docket Numbers: ER18-816-000.

Applicants: PJM Interconnection, L.L.C.

Description: § 205(d) Rate Filing: Original WMPA SA No. 4916; Queue No. AC2-070 to be effective 1/26/2018.

Filed Date: 2/7/18.

Accession Number: 20180207-5009.

Comments Due: 5 p.m. ET 2/28/18.

Docket Numbers: ER18-817-000.

Applicants: PJM Interconnection, L.L.C.

Description: § 205(d) Rate Filing: Original WMPA SA No. 4918; Queue No. AC2-072 to be effective 1/30/2018.

Filed Date: 2/7/18.

Accession Number: 20180207-5040.

Comments Due: 5 p.m. ET 2/28/18.

Docket Numbers: ER18-818-000.

Applicants: KCP&L Greater Missouri Operations Company.

Description: § 205(d) Rate Filing: Rate Schedules 141 to be effective 4/8/2018.

Filed Date: 2/7/18.

Accession Number: 20180207-5050.

Comments Due: 5 p.m. ET 2/28/18.

Docket Numbers: ER18-819-000.

Applicants: Kansas City Power & Light Company.

Description: § 205(d) Rate Filing: Rate Schedules 141 to be effective 4/8/2018.

Filed Date: 2/7/18.

Accession Number: 20180207-5071.

Comments Due: 5 p.m. ET 2/28/18.

Docket Numbers: ER18-820-000.

Applicants: PJM Interconnection, L.L.C.

Description: § 205(d) Rate Filing: Revised ISA, Service Agreement No. 2181, Queue No. AB2-175 to be effective 1/8/2018.

Filed Date: 2/7/18.

Accession Number: 20180207-5076.

Comments Due: 5 p.m. ET 2/28/18.

Docket Numbers: ER18-821-000.

Applicants: Binghamton BOP LLC.

Description: Notice of Cancellation of Market-Based Rate Tariff of Binghamton BOP LLC.

Filed Date: 2/7/18.

Accession Number: 20180207-5082.

Comments Due: 5 p.m. ET 2/28/18.

Docket Numbers: ER18-822-000.

Applicants: Kansas City Power & Light Company.

Description: § 205(d) Rate Filing: Rate Schedules 142 to be effective 4/8/2018.

Filed Date: 2/7/18.

Accession Number: 20180207-5105.

Comments Due: 5 p.m. ET 2/28/18.

Docket Numbers: ER18-823-000.

Applicants: ColGreen North Shore, LLC.

Description: Baseline eTariff Filing: Baseline new to be effective 2/8/2018.

Filed Date: 2/7/18.

Accession Number: 20180207-5110.

Comments Due: 5 p.m. ET 2/28/18.

Docket Numbers: ER18-824-000.

Applicants: Kansas City Power & Light Company.

Description: § 205(d) Rate Filing: Rate Schedules 143 to be effective 4/8/2018.

Filed Date: 2/7/18.

Accession Number: 20180207-5116.

Comments Due: 5 p.m. ET 2/28/18.

Docket Numbers: ER18-825-000.

Applicants: Kansas City Power & Light Company.

Description: § 205(d) Rate Filing: Rate Schedules 144 to be effective 4/8/2018.

Filed Date: 2/7/18.

Accession Number: 20180207-5120.

Comments Due: 5 p.m. ET 2/28/18.

Docket Numbers: ER18-827-000.

Applicants: Alabama Power Company.

Description: § 205(d) Rate Filing: Cooperative Energy Second Amended and Restated NITSA Filing to be effective 4/1/2018.

Filed Date: 2/7/18.

Accession Number: 20180207-5122.

Comments Due: 5 p.m. ET 2/28/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 7, 2018.
Nathaniel J. Davis, Sr.,
Deputy Secretary.

[FR Doc. 2018-03066 Filed 2-13-18; 8:45 am]

BILLING CODE 6717-01-P